DEPARTMENT OF ENERGY

Federal Energy Regulatory Commission

[Project No. 12635-000]

Moriah Hydro Corporation; Notice Rejecting Late Intervention

April 6, 2007.

On January 3, 2006, Moriah Hydro Corporation (Moriah) filed an application for a three-year preliminary permit under Section 4(f) of the Federal Power Act ¹ to study the proposed 189-megawatt Mineville Pumped Storage Project No. 12635. Public notice of the application was issued on April 20, 2006, with a deadline of June 19, 2006, for comments and motions to intervene. On November 13, 2006, a preliminary permit was issued to Moriah.² The order became final on December 13, 2006.

¹ 16 U.S.C. 797(f) (2000).

² Moriah Hydro Corporation, 117 FERC ¶ 62,149 (2006).

On March 7, 2007, the New York State Council of Trout Unlimited (Trout Unlimited) filed a late motion to intervene in the permit application proceeding. The permit application proceeding was terminated upon issuance of the permit. Because there is no proceeding in which to intervene, Trout Unlimited's motion for late intervention is rejected.³

³ If the Moriah files a license application, public notice will be issued; and Trout Unlimited will have an opportunity to intervene and comment on the proposed project.

Philis J. Posey,
Acting Secretary.

[FR Doc. E7-6916 Filed 4-11-07; 8:45 am]

BILLING CODE 6717-01-P